DEPARTMENT OF TRANSPORTATION

Federal Aviation Administration

Notice of Intent To Request Renewal From the Office of Management and Budget (OMB) of Four Current Public Collections of Information

AGENCY: Federal Aviation Administration (FAA), DOT.

ACTION: Notice.

SUMMARY: In compliance with the Paperwork Reduction Act (44 U.S.C. 3501 et seq.), the FAA invites public comment on four currently approved public information collections which will be submitted to OMB for renewal.

DATES: Comments must be received on or before September 13, 2004.

ADDRESSES: Comments may be mailed or delivered to the FAA at the following address: Ms. Judy Street, Room 612, Federal Aviation Administration, Standards and Information Division, APF-100, 800 Independence Ave., SW., Washington, DC 20591.

FOR FURTHER INFORMATION CONTACT: Ms. Judith D. Street at the above address, on (202) 267-9895, or by e-mail at: Judy.Street@faa.gov.

SUPPLEMENTARY INFORMATION: In accordance with the Paperwork Reduction Act of 1995, an agency may not conduct or sponsor, and a person is not required to respond to a collection of information unless it displays a currently valid OMB control number. Therefore, the FAA solicits comments on the following current collections of information. Comments should evaluate the necessity of the collection, the accuracy of the agency's estimate of the burden, the quality, utility, and clarity of the information to be collected, and possible ways to minimize the burden of the collection.

1. 2120-0034, Medical Standards and Certification. The Secretary of Transportation collects model certification information under the authority of 49 U.S.C. 40113, 44510, 44701, 44702, 44703, 44709, 45303, and 80111. The certification program is implemented by Title 14 CFR parts 61 and 67. Part 67 prescribes minimum airman medical standards, and § 61.23 prescribes standards for the duration of a medical certificate. Information collected substantiates the applicant's eligibility. The current estimated annual reporting burden is 707,253 hours.

2. 2120-0040, Aviation Maintenance Technical Schools. Section 44707 (49 U.S.C.) authorizes certification of civil aviation mechanic schools; 14 CFR 147 prescribes requirements for certification and operation of aviation mechanic schools. The information collected is needed to determine applicant eligibility and compliance. The current estimated annual reporting burden is 66,134 hours.

3. 2120-0593, Commuter Operations and General Certification and Operations Requirements. The respondents to this information collection are FAR Part 135 and 121 operators. The FAA will use the information collected to ensure compliance and adherence to regulations. The respondents are aircraft owners and operators. The current estimated annual reporting burden is 8,855 hours.

4. 2120-0672, Criteria for Internet Communications of Aviation Weather, Notam, and Aeronautical Data. An Advisory Circular (AC) establishes criteria for Qualified Internet Communications Providers (QICP), who provide access to aviation weather, Notice to Airmen (NOTAM), and aeronautical data via the Public Internet. The AC describes procedures for a provider to become and remain an FAA approved QICP, and the information collected is used to determine the provider's eligibility. The current estimated annual reporting burden is 5,680 hours.

Issued in Washington, DC, on July 7, 2004.
Judith D. Street,
FAA Information Collection Clearance Officer, APF-100.

[FR Doc. 04-15848 Filed 7-12-04; 8:45 am]

BILLING CODE 4910-13-M